DEPARTMENT OF HEALTH AND HUMAN SERVICES

Administration for Children and Families

[CFDA Number: 93.676]

Announcement of the Award of Six Single-Source Program Expansion Supplement Grants Under the Unaccompanied Children's Program

AGENCY: Office of Refugee Resettlement, ACF, HHS.

ACTION: Notice of award of six single-source program expansion supplement grants under the Unaccompanied Children's (UC) Program.

SUMMARY: The Administration for Children and Families, Office of Refugee Resettlement (ORR), announces the award of six single-source program expansion supplement grants for a total of $14,821,314 under the UC Program.

DATES: Supplemental award funds will support activities for four grantees from October 1, 2016, through December 31, 2016, and for two grantees from October 1, 2016, through September 30, 2017.

FOR FURTHER INFORMATION CONTACT: Jallyn Sualog, Director, Division of Unaccompanied Children Operations, Office of Refugee Resettlement, 330 C Street SW., Washington, DC 20201. Phone: 202-401-4997. Email: DCSProgram@acf.hhs.gov.

SUPPLEMENTARY INFORMATION: ORR is continuously monitoring its capacity to shelter the UC referred to the Department of Health and Human Services (HHS), and the information received from interagency partners, to inform any future decisions or actions. The six recipients are:

Organization | Location | Amount
Heartland Human Care, Inc | Chicago, IL | $845,855
International Educational Services, Inc | San Benito, TX | 131,109
International Educational Services, Inc | Los Fresnos, TX | 1,118,780
Cayuga Home for Children DBA Cayuga Centers | New York, NY | 979,200
Southwest Key | Phoenix, AZ | 2,460,800
Southwest Key | Brownsville, TX | 9,285,570

ORR has been identifying additional capacity to provide shelter for potential increases in apprehensions of UC at the U.S. Southern Border. Planning for increased shelter capacity is a prudent step to ensure that ORR is able to meet its responsibility, by law, to provide shelter for Unaccompanied Children referred to its care by the Department of Homeland Security (DHS).

The expansion supplement grants will support the need to increase shelter capacity to accommodate the increasing numbers of UCs being referred by DHS. All grantees have the infrastructure, licensing, experience and appropriate level of trained staff to meet the service requirements and the urgent need for expansion of services. The grantees provide residential services to UC in the care and custody of ORR, as well as services to include counseling, case management, and additional support services to the family or to the UC and their sponsor when a UC is released from ORR's care and custody.

ORR has specific requirements for the provision of services. Award recipients must have the infrastructure, licensing, experience, and appropriate level of trained staff to meet those requirements. The expansion of the existing program and its services through this supplemental award is a key strategy for ORR to be prepared to meet its responsibility to provide shelter for UC referred to its care by DHS and so that the U.S. Border Patrol can continue its vital national security mission to prevent illegal migration and trafficking, and to protect the borders of the United States.

Statutory Authority: This program is authorized by—

(A) Section 462 of the Homeland Security Act of 2002, which in March 2003, transferred responsibility for the care and custody of Unaccompanied Alien Children from the Commissioner of the former Immigration and Naturalization Service to the Director of ORR of HHS.

(B) The Flores Settlement Agreement, Case No. CV85-4544-RJK (C. D. Cal. 1996), and the William Wilberforce Trafficking Victims Protection Reauthorization Act of 2008 (Pub. L. 110-457), which authorizes post release services under certain conditions to eligible children. All programs must comply with the Flores Settlement Agreement, Case No. CV85-4544-RJK (C.D. Cal. 1996), pertinent regulations and ORR policies and procedures.

Christopher Beach,
Senior Grants Policy Specialist, Division of Grants Policy, Office of Administration.

[FR Doc. 2017-12627 Filed 6-16-17; 8:45 am]

BILLING CODE 4184-45-P